Proclamation 9122 of May 9, 2014

National Women's Health Week, 2014

By the President of the United States of America

A Proclamation

As Americans, we strive for a Nation of broad-based prosperity, where hard work pays off and everyone can go as far as their dreams allow. Over the past half-century, women have opened up vast horizons for themselves and their daughters. Yet many still work harder for less, and because of gender inequality in areas like health care, they have had to stretch paychecks further to make ends meet. During National Women's Health Week, we recommit to expanding women's access to care, fighting discrimination, and advancing the opportunity agenda.

The Affordable Care Act (ACA) prohibits insurers from charging women higher premiums simply because of their gender. Insurance companies can no longer discriminate against women due to pregnancy, or deny coverage because of pre-existing conditions. Thanks to the ACA, women can receive preventive services like contraceptive care, recommended cancer screenings, and annual well-woman visits at no out-of-pocket cost. And this year, millions of women signed up for affordable coverage through the Health Insurance Marketplace while millions more gained insurance through the expansion of Medicaid. To learn more about resources available to women and girls, visit www.HealthCare.gov, www.WomensHealth.gov, or www.GirlsHealth.gov.

As we continue to implement this law, my Administration remains dedicated to protecting women's rights to make their own health care decisions. The past few years have seen an orchestrated and historic effort to roll back these basic rights. States have enacted laws aimed at banning or severely limiting the right to choose and introduced legislation that would cut off access to common forms of birth control. Together, we must reject policies that aim to turn back the clock.

This week, let us uphold the principle of equality in health care. Let us affirm that women alone—not insurance executives, not politicians, and not their bosses—have the right to make decisions about their own health.

NOW, THEREFORE, I, BARACK OBAMA, President of the United States of America, by virtue of the authority vested in me by the Constitution and the laws of the United States, do hereby proclaim May 11 through May 17, 2014, as National Women's Health Week. I encourage all Americans to celebrate the progress we have made in protecting women's health and to promote awareness, prevention, and educational activities that improve the health of all women.

IN WITNESS WHEREOF, I have hereunto set my hand this ninth day of May, in the year of our Lord two thousand fourteen, and of the Independence of the United States of America the two hundred and thirty-eighth.

[FR Doc. 2014-11305

Filed 5-13-14; 11:15 am]

Billing code 3295-F4